DEPARTMENT OF VETERANS AFFAIRS

Funding Opportunity: Staff Sergeant Parker Gordon Fox Suicide Prevention Grant Program

AGENCY: Department of Veterans Affairs.

ACTION: Notice of funding opportunity; correction.

SUMMARY: The Department of Veterans Affairs (VA) published a document in the Federal Register on April 15, 2022, concerning a Notice of Funding Opportunity (NOFO) for suicide prevention services grants under the Staff Sergeant Parker Gordon Fox Suicide Prevention Grant Program (SSG Fox SPGP). This Notice amends two provisions in section I to clarify requirements regarding the provision or coordination of a baseline mental health screening to participants.

DATES: Applications for suicide prevention services grants under the SSG Fox SPGP Program must be received by 11:59 p.m. Eastern Time on June 10, 2022. In the interest of fairness to all competing applicants, this deadline is firm as to date and hour, and VA will treat as ineligible for consideration any application that is received after the deadline. Applicants should take this practice into account and make early submission of their materials to avoid any risk of loss of eligibility brought about by unanticipated delays, computer service outages or other submission-related problems.

ADDRESSES: For a Copy of the Application Package: Copies of the application can be downloaded from the SSG Fox SPGP website at https://www.mentalhealth.va.gov/ssgfox-grants/. Questions should be referred to the SSG Fox SPGP at VASSGFoxGrants@va.gov. For detailed SSG Fox SPGP information and requirements, see part 78 of title 38 CFR part 78.

Application Submission: Applicants must submit applications electronically following instructions found at: www.mentalhealth.va.gov/ssgfox-grants/. Applications may not be mailed or sent by facsimile (fax). Applications must be received by the SSG Fox SPGP Office no later than 11:59 p.m. Eastern Time on the application deadline date. Applications must arrive as a complete package. Materials arriving separately will not be included in the application package and may result in the application being rejected.

Technical Assistance: Information on obtaining technical assistance preparing a suicide prevention services grant application is available on the SSG Fox SPGP website at https://www.mentalhealth.va.gov/ssgfox-grants/.

FOR FURTHER INFORMATION CONTACT: Ms. Sandra Foley, Director, SSG Fox SPGP, Office of Mental Health and Suicide Prevention, 11MHSP, 202-502-0002 (this is not a toll-free telephone number), or VASSGFoxGrants@va.gov.

SUPPLEMENTARY INFORMATION: As VA prepares to implement the SSG Fox SPGP and coordinate with grantees, we identify the requirement in 38 CFR 78.50(a) that “Grantees must provide or coordinate the provision of a baseline mental health screening to all participants,” including children, could present significant logistical and legal difficulties. VA is unaware of any validated tool that can be used by non-clinicians as a baseline mental health screening to assess suicide risk and mental and behavioral health conditions for persons under the age of 18. Further, persons under the age of 18 generally need parental consent to access screening services like this, and such a requirement could delay, or at least complicate, compliance with this requirement. It is also unclear how often children under the age of 18 would be active participants in programs administered by grantees, physically present with the grantee or otherwise in contact and coordination with the grantee. Given these factors, we do not believe it is appropriate, at this time, to require applicants to plan to screen participants under the age of 18 in their programs. Consequently, VA will not require applicants under this Notice, or grantees awarded funds pursuant to this Notice, to provide or coordinate a baseline mental health screening to participants under the age of 18. VA will consider possible changes to this requirement, as it prepares a final rule to implement its interim final regulations from March 10, 2022.

We emphasize one point for clarity. VA expects applicants to be aware that children may be members of a household of an eligible individual and consequently could be participants in their programs. VA expects that any applicant awarded a grant who is presented with a person under the age of 18 who is in a mental health crisis or emergency will take all appropriate actions necessary to serve and protect that person.

CORRECTION:

In the Federal Register (FR) NOFO of April 15, 2022, in FR Doc 2022-08040, correct:

(1) Section I (Funding Opportunity Description), Paragraph D (Approach), first paragraph, second sentence to read: “Applicants must include in their application how they will provide or coordinate the provision of the baseline mental health screening to all participants age 18 and over.”

(2) Section I (Funding Opportunity Description), Paragraph D (Approach), third paragraph, first sentence to read: “Baseline mental health screening: Grantees must provide or coordinate the provision of baseline mental health screenings to all participants age 18 and over they serve at the time those services begin.”

(3) Section I (Funding Opportunity Description), Paragraph F (Guidance for the Use of Suicide Prevention Services Funds), fifth paragraph, third and fourth sentences to read: “Grantees must determine and document the degree of risk of suicide for each participant age 18 and over using tools identified in the suicide prevention services grant agreement. Prior to services ending, grantees must provide or coordinate the provision of a mental health screening to all participants age 18 and over they serve, when possible.”

Signing Authority

Denis McDonough, Secretary of Veterans Affairs, approved this document on May 23, 2022, and authorized the undersigned to sign and submit the document to the Office of the Federal Register for publication electronically as an official document of the Department of Veterans Affairs.

Jeffrey M. Martin,
Assistant Director, Office of Regulation Policy & Management, Office of General Counsel, Department of Veterans Affairs.

[FR Doc. 2022-11899 Filed 6-2-22; 8:45 am]

BILLING CODE 8320-01-P